DEPARTMENT OF TRANSPORTATION

Federal Aviation Administration

Eightieth Meeting: RTCA Special Committee 147, Minimum Operational Performance Standards for Traffic Alert and Collision Avoidance Systems Airborne Equipment

AGENCY: Federal Aviation Administration (FAA), U.S. Department of Transportation (DOT).

ACTION: Meeting Notice of RTCA Special Committee 147, Minimum Operational Performance Standards for Traffic Alert and Collision Avoidance Systems Airborne Equipment.

SUMMARY: The FAA is issuing this notice to advise the public of the eightieth meeting of RTCA Special Committee 147, Minimum Operational Performance Standards for Traffic Alert and Collision Avoidance Systems Airborne Equipment.

DATES: The meeting will be held January 13-15, 2015, from 9:00 a.m. to 5:00 p.m.

ADDRESSES: The meeting will be held at RTCA, Inc., 1150 18th Street NW., Suite 910, Washington, DC 20036.

FOR FURTHER INFORMATION CONTACT: The RTCA Secretariat, 1150 18th Street NW., Suite 910, Washington, DC 20036, or by telephone at (202) 833-9339, fax at (202) 833-9434, or Web site at http://www.rtca.org.

SUPPLEMENTARY INFORMATION: Pursuant to section 10(a)(2) of the Federal Advisory Committee Act (Pub. L. No. 92-463, 5 U.S.C., App.), notice is hereby given for a meeting of Special Committee 147. The agenda will include the following:

Tuesday, January 13th

• Joint meeting of Surveillance and Tracking (SWG) and Threat Resolution (TWG) Working Groups. (Specific agendas to be distributed through Working Groups.)

Wednesday, January 14th

• SWG and TWG meet separately. (Specific agendas to be distributed through Working Groups.)

Thursday, January 15th: SC-147 Plenary Agenda

• Opening Plenary Session

○ Chairmen's Opening Remarks/Introductions

○ Approval of Minutes from 78th meeting of SC-147

○ Approval of Agenda

• WG-75 Activities Update

• EUROCONTROL Activities

• Update on SESAR ACAS X Activities

• Break

• Report from TCAS PO

• Update of CAS Interoperability Requirements and interactions with SC 228

• Lunch

• Report from WG-2 (Threat Resolution)

• Report from WG-1 (Surveillance and Tracking)

• (Future) Equipage/Capability bits in ACAS X messages

• Review of Decisions and Actions

• Additional business/Overflow if time permits

• Update on vendor data for SWG/Target of Opportunity analysis

• Closing Session

○ Next Meeting Location

○ Action Item review

○ End Meeting

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on December 16, 2014.
Mohannad Dawoud,
Management Analyst, NextGen, Program Oversight and Administration, Federal Aviation Administration.

[FR Doc. 2014-29907 Filed 12-19-14; 8:45 am]

BILLING CODE 4910-13-P